DEPARTMENT OF LABOR

Occupational Safety and Health Administration

[Docket No. OSHA-2006-0040]

SGS North America, Inc.: Applications for Expansion of Recognition

AGENCY: Occupational Safety and Health Administration (OSHA), Labor.

ACTION: Notice.

SUMMARY: In this notice, OSHA announces the applications of SGS North America, Inc. for expansion of its scope of recognition as a Nationally Recognized Testing Laboratory (NRTL) and presents the Agency's preliminary finding to grant the applications.

DATES: Submit comments, information, and documents in response to this notice, or requests for an extension of time to make a submission, on or before August 5, 2016.

ADDRESSES: Submit comments by any of the following methods:

1. Electronically: Submit comments and attachments electronically at http://www.regulations.gov, which is the Federal eRulemaking Portal. Follow the instructions online for making electronic submissions.

2. Facsimile: If submissions, including attachments, are not longer than 10 pages, commenters may fax them to the OSHA Docket Office at (202) 693-1648.

3. Regular or express mail, hand delivery, or messenger (courier) service: Submit comments, requests, and any attachments to the OSHA Docket Office, Docket No. OSHA-2006-0040, Technical Data Center, U.S. Department of Labor, 200 Constitution Avenue NW., Room N-2625, Washington, DC 20210; telephone: (202) 693-2350 (TTY number: (877) 889-5627). Note that security procedures may result in significant delays in receiving comments and other written materials by regular mail. Contact the OSHA Docket Office for information about security procedures concerning delivery of materials by express mail, hand delivery, or messenger service. The hours of operation for the OSHA Docket Office are 8:15 a.m.—4:45 p.m., e.t.

4. Instructions: All submissions must include the Agency name and the OSHA docket number OSHA-2006-0040. OSHA places comments and other materials, including any personal information, in the public docket without revision, and these materials will be available online at http://www.regulations.gov. Therefore, the Agency cautions commenters about submitting statements they do not want made available to the public, or submitting comments that contain personal information (either about themselves or others) such as Social Security numbers, birth dates, and medical data.

5. Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection at the OSHA Docket Office. Contact the OSHA Docket Office for assistance in locating docket submissions.

6. Extension of comment period: Submit requests for an extension of the comment period on or before August 5, 2016 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; phone: (202) 693-2110 or email: robinson.kevin@dol.gov.

SUPPLEMENTARY INFORMATION:

I. Notice of the Applications for Expansion

The Occupational Safety and Health Administration is providing notice that SGS North America, Inc. (SGS), is applying for expansion of its current recognition as an NRTL. SGS requests the addition of three (3) recognized testing and certification sites and thirty-nine (39) additional test standards to its NRTL scope of recognition.

OSHA recognition of an NRTL signifies that the organization meets the requirements specified in 29 CFR 1910.7. Recognition is an acknowledgment that the organization can perform independent safety testing and certification of the specific products covered within its scope of recognition and is not a delegation or grant of government authority. Recognition enables employers to use products approved by the NRTL to meet OSHA standards that require product testing and certification.

The Agency processes applications by an NRTL for initial recognition and for an expansion or renewal of this recognition, following requirements in Appendix A to 29 CFR 1910.7. This appendix requires that the Agency publish two notices in the Federal Register in processing an application. In the first notice, OSHA announces the application and provides its preliminary finding. In the second notice, the Agency provides its final decision on the application. These notices set forth the NRTL's scope of recognition or modifications of that scope. OSHA maintains an informational Web page for each NRTL, including SGS, which details the NRTL's scope of recognition. These pages are available from the OSHA Web site at http://www.osha.gov/dts/otpca/nrtl/index.html.

Each NRTL's scope of recognition includes: (1) The type of products the NRTL may test, with each type specified by its applicable test standard; and (2) the recognized site(s) that has/have the technical capability to perform the product testing and product-certification activities for test standards within the NRTL's scope.

SGS currently has six facilities (sites) recognized by OSHA for product testing and certification, with its headquarters located at: SGS North America, Inc. 620 Old Peachtree Road, Suwanee, Georgia 30024. A complete list of SGS sites recognized by OSHA is available at https://www.osha.gov/dts/otpca/nrtl/sgs.html.

II. General Background on the Applications

SGS submitted four applications, two dated September 24, 2014 (OSHA-2006-0040-0025), and two dated October 1, 2014 (OSHA-2006-0040-0026 and OSHA-2006-0040-0028), to expand its recognition to include the addition of three recognized testing and certification sites located at: SGS Tecnos S.A., C/. Trespaderne 29, Edificio Barajas 1, 28042 Madrid—Spain; SGS Fimko, Ltd., Sarkiniementie 3, FI-00210 Helsinki, Finland; and SGS Baseefa Limited, Rockhead Business Park, Staden Lane, Buxton SK17 9RZ, United Kingdom. Amendments to the October 1, 2014, applications were received on January 14, 2015 (OSHA-2006-0040-0027), and June 16, 2016 (OSHA-2006-0040-0029). These applications requested the addition of 49 additional test standards to SGS's scope of recognition, in addition to the three testing and certification sites. OSHA staff performed detailed analysis of the application packets and on-site reviews of SGS's testing facilities on August 5, 2015, at SGS Madrid, August 13, 2015, at SGS-Baseefa and August 17, 2015, at SGS-Fimko, in which the assessors found some nonconformances with the requirements of 29 CFR 1910.7. SGS addressed these issues sufficiently, and OSHA staff preliminarily determined that OSHA should grant the applications to expand SGS's recognition to include the three additional recognized testing sites and 39 of the 49 requested standards.

Table 1 below lists the appropriate test standards found in SGS's applications for expansion for testing and certification of products under the NRTL Program.

Table 1—Proposed List of Appropriate Test Standards for Inclusion in SGS's NRTL Scope of Recognition
Test standard | Test standard title
UL 1741 | Inverters, Converters, Controllers and Interconnection System Equipment for Use in Distributed Energy Resources.
UL 6142 | Small Wind Turbine Systems.
UL 763 | Motor-Operated Commercial Food Preparing Machines.
UL 775 | Graphic Arts Equipment.
UL 1004-1 | Rotating Electrical Machines—General Requirements.
UL 2089 | Vehicle Battery Adapters.
ISA 60079-0 | Explosive Atmospheres—Part 0: Equipment—General Requirements.
ISA 60079-1 | Explosive Atmospheres—Part 1: Equipment Protection by Flameproof Enclosures “d”.
ISA 60079-2 | Explosive Atmospheres—Part 2: Equipment Protection by Pressurized Enclosures “p”.
ISA 60079-5 | Explosive Atmospheres—Part 5: Equipment Protection by Powder Filling “q”.
ISA 60079-6 | Explosive Atmospheres—Part 6: Equipment Protection by Liquid Immersion “o”.
ISA 60079-7 | Explosive Atmospheres—Part 7: Equipment Protection by Increased Safety “e”.
ISA 60079-11 | Explosive Atmospheres—Part 11: Equipment Protection by Intrinsic Safety “i”.
ISA 60079-15 | Explosive Atmospheres—Part 15: Equipment Protection by Type of Protection “n”.
ISA 60079-18 | Explosive Atmospheres—Part 18: Equipment Protection by Encapsulation “m”.
ISA 60079-26 | Explosive Atmospheres—Part 26: Equipment for Use in Class I, Zone 0 Hazardous (Classified) Locations.
ISA 60079-28 | Explosive Atmospheres—Part 28: Protection of Equipment and Transmission Systems Using Optical Radiation, Edition 1.1.
ISA 60079-31 | Explosive Atmospheres—Part 31: Equipment Dust Ignition Protection by Enclosure “t”.
UL 1203 | Explosion Proof and Dust-Ignition-Proof Electrical Equipment for Use in Hazardous (Classified) Locations.
UL 1574 | Track Lighting Systems.
UL 2108 | Low Voltage Lighting Systems.
UL 8750 | Light Emitting Diode (LED) Equipment for Use in Lighting Products.
UL 60745-1 | Hand-Held Motor-Operated Electric Tools—Safety—Part 1: General Requirements.
UL 60745-2-1 | Hand-Held Motor Operated Electrical Tools—Safety—Part 2-1: Particular Requirements for Drills and Impact Drills.
UL 60745-2-2 | Particular Requirements for Screwdrivers and Impact Wrenches.
UL 60745-2-3 | Particular Requirements for Grinders, Polishers and Disk-Type Sanders.
UL 60745-2-4 | Particular Requirements for Sanders and Polishers Other Than Disk Type.
UL 60745-2-5 | Particular Requirements for Circular Saws.
UL 60745-2-6 | Particular Requirements for Hammers.
UL 60745-2-8 | Particular Requirements for Shears and Nibblers.
UL 60745-2-9 | Particular Requirements for Tappers.
UL 60745-2-11 | Particular Requirements for Reciprocating Saws.
UL 60745-2-12 | Particular Requirements for Concrete Vibrators.
UL 60745-2-13 | Hand-Held Motor-Operated Electric Tools—Safety—Part 2-13: Particular Requirements for Chain Saws.
UL 60745-2-14 | Hand-Held Motor-Operated Electric Tools—Safety—Part 2-14: Particular Requirements for Planers.
UL 60745-2-15 | Hand-Held Motor-Operated Electric Tools—Safety—Part 2-15: Particular Requirements for Hedge Trimmers.
UL 60745-2-16 | Hand-Held Motor-Operated Electric Tools—Safety—Part 2-16: Particular Requirements for Tackers.
UL 60745-2-17 | Hand-Held Motor-Operated Electric Tools—Safety—Part 2-17: Particular Requirements for Routers and Trimmers.
UL 62368-1 | Audio/Video, Information and Communication Technology Equipment—Part 1: Safety Requirements.

III. Preliminary Finding on the Applications

SGS submitted acceptable applications for expansion of its scope of recognition. OSHA's review of the application files and its detailed on-site assessments indicate that SGS can meet the requirements prescribed by 29 CFR 1910.7 for expanding its recognition to include the addition of three sites and these 39 test standards for NRTL testing and certification listed above. This preliminary finding does not constitute an interim or temporary approval of SGS's applications.

OSHA welcomes public comment as to whether SGS meets the requirements of 29 CFR 1910.7 for expansion of its recognition as an NRTL. Comments should consist of pertinent written documents and exhibits. Commenters needing more time to comment must submit a request in writing, stating the reasons for the request. Commenters must submit the written request for an extension by the due date for comments. OSHA will limit any extension to 10 days unless the requester justifies a longer period. OSHA may deny a request for an extension if it is not adequately justified. To obtain or review copies of the exhibits identified in this notice, as well as comments submitted to the docket, contact the Docket Office, Room N-2625, Occupational Safety and Health Administration, U.S. Department of Labor, at the above address. These materials also are available online at http://www.regulations.gov under Docket No. OSHA-2006-0040.

OSHA staff will review all comments to the docket submitted in a timely manner and, after addressing the issues raised by these comments, will recommend to the Assistant Secretary for Occupational Safety and Health whether to grant SGS's applications for expansion of its scope of recognition. The Assistant Secretary will make the final decision on granting the applications. In making this decision, the Assistant Secretary may undertake other proceedings prescribed in Appendix A to 29 CFR 1910.7. OSHA will publish a public notice of this final decision in the Federal Register.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 15, 2016.
David Michaels,
Assistant Secretary of Labor for Occupational Safety and Health.

[FR Doc. 2016-17241 Filed 7-20-16; 8:45 am]

BILLING CODE 4510-26-P